DEPARTMENT OF COMMERCE

National Oceanic and Atmospheric Administration

RIN 0648-XA098

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Outreach and Education Advisory Panel (AP).

DATES: The Outreach and Education AP meeting is scheduled to begin at 1 p.m. on Tuesday, January 11, and end by 5 p.m. on Wednesday, January 12, 2011.

ADDRESSES: The meeting will be held at the Gulf of Mexico Fishery Management Council, 2203 N. Lois Avenue, Suite 1100, Tampa, FL 33607.

Council address: Gulf of Mexico Fishery Management Council, 2203 N. Lois Avenue, Suite 1100, Tampa, FL 33607.

FOR FURTHER INFORMATION CONTACT: Charlene Ponce, Public Information Officer; telephone: (813) 348-1630.

SUPPLEMENTARY INFORMATION: During this Advisory Panel meeting, the Outreach and Education AP will receive an update on the Marine Resource Education Program, review a draft five-year strategic communication plan and proposed action items, as well as identify assignments and assign workgroups. The panel may also provide recommendations to the Council.

Although other non-emergency issues not on the agenda may come before the Outreach and Education AP for discussion, in accordance with the Magnuson-Stevens Fishery Conservation and Management Act (Magnuson-Stevens Act), those issues may not be the subject of formal action during these meetings. Actions of the Outreach and Education AP will be restricted to those issues specifically identified in the agenda and any issues arising after publication of this notice that require emergency action under Section 305(c) of the Magnuson-Stevens Act, provided the public has been notified of the Council's intent to take action to address the emergency.

Copies of the agenda can be obtained by calling (813) 348-1630.

Special Accommodations

This meeting is physically accessible to people with disabilities. Requests for sign language interpretation or other auxiliary aids should be directed to Trish Kennedy at the Council (see ADDRESSES) at least 5 working days prior to the meeting.

Dated: December 16, 2010.
Tracey L. Thompson,
Acting Director, Office of Sustainable Fisheries, National Marine Fisheries Service.

[FR Doc. 2010-31953 Filed 12-20-10; 8:45 am]

BILLING CODE 3510-22-P